SMALL BUSINESS ADMINISTRATION

Reporting and Recordkeeping Requirements Under OMB Review

AGENCY: Small Business Administration.

ACTION: 30-Day Notice.

SUMMARY: The Small Business Administration (SBA) is publishing this notice to comply with requirements of the Paperwork Reduction Act (PRA) (44 U.S.C. Chapter 35), which requires agencies to submit proposed reporting and recordkeeping requirements to OMB for review and approval, and to publish a notice in the Federal Register notifying the public that the agency has made such a submission. This notice also allows an additional 30 days for public comments.

DATES: Submit comments on or before January 21, 2016.

ADDRESSES: Comments should refer to the information collection by name and/or OMB Control Number and should be sent to: Agency Clearance Officer, Curtis Rich, Small Business Administration, 409 3rd Street SW., 5th Floor, Washington, DC 20416; and SBA Desk Officer, Office of Information and Regulatory Affairs, Office of Management and Budget, New Executive Office Building, Washington, DC 20503.

FOR FURTHER INFORMATION CONTACT: Curtis Rich, Agency Clearance Officer, (202) 205-7030 curtis.rich@sba.gov.

Copies: A copy of the Form OMB 83-1, supporting statement, and other documents submitted to OMB for review may be obtained from the Agency Clearance Officer.

SUPPLEMENTARY INFORMATION: The Small Business Act, as amended by the Small Business Innovation Research (SBIR) and Small Business Technology Transfer Program (STTR) Reauthorization Act of 2011, requires SBA to collect regarding the SBIR and STTR awards made by the federal agencies that participate in those programs. SBA is required to maintain this information in searchable electronic databases and also to report the information to Congress annually.

Title: SBA to collect regarding the SBIR and STTR awards and Small Business Transfer (STTR) Tech-Net Database.

Description of Respondents: SBA to collect regarding the SBIR and STTR awards.

Form Number: N/A.

Estimated Annual Responses: 13,500.

Estimated Annual Hour Burden: 62,370.

Curtis B. Rich,
Management Analyst.

[FR Doc. 2015-32032 Filed 12-21-15; 8:45 am]

BILLING CODE 8025-01-P